DEPARTMENT OF JUSTICE

Notice of Lodging of Proposed Consent Decree Under the Comprehensive Environmental Response, Compensation, and Liability Act of 1980, as Amended (“CERCLA”), 42 U.S.C. 9601 et seq.

On March 27, 2013, the Department of Justice lodged a proposed consent decree (“Decree”) with the United States District Court for the Northern District of New York in the lawsuit entitled United States, State of New York and St. Regis Mohawk Tribe v. Alcoa Inc. and Reynolds Metals Co., Civil Action No. 7:13-cv-00337-NAM-TWD. The Decree resolves claims asserted under Section 107(a) of the Comprehensive Environmental Response, Compensation, and Liability Act (“CERCLA”), 42 U.S.C. 9607(a), against Alcoa Inc. and Reynolds Metals Co. (“Defendants”) for natural resource damages resulting from the release of hazardous substances at or from the Alcoa and Reynolds sites located near the Town of Massena, St. Lawrence County, New York. The Decree provides for the Defendants to pay assessment costs, pay for natural resource restoration projects, purchase and transfer real property to be included in an existing State of New York Wildlife Management Area, pay for Tribal cultural restoration projects, and perform certain restoration projects. The Defendants' work and payment obligation under the Decree total approximately $19.4 million.

Attachment A to the Decree is the St. Lawrence River Environment Natural Resource Damage Assessment: Restoration and Compensation Determination Plan and Environmental Assessment (“RCDP”). The RCDP describes the natural resource injuries and associated losses and outlines proposed restoration projects. Notice of the issuance of the RCDP was published by the National Oceanic and Atmospheric Administration in the Federal Register on April 4, 2013, triggering the public comment period for that document. 78 Fed. Reg. 20298 (April 4, 2013).

The publication of this notice opens a period for public comment on the Decree. Comments should be addressed to the Assistant Attorney General, Environment and Natural Resources Division, and should refer to United States, State of New York and St. Regis Mohawk Tribe v. Alcoa Inc. and Reynolds Metals Co., D.J. Ref. No. 90-11-3-558. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Decree may be examined and downloaded at this Justice Department Web site: http://www.usdoj.gov/enrd/Consent_Decrees.html. We will provide a paper copy of the Decree upon written request and payment of reproduction costs. Please mail your request and payment to:

Consent Decree Library, U.S. DOJ-ENRD, P.O. Box 7611, Washington, DC 20044-7611.

Please enclose a check or money order for $155.25 (25 cents per page reproduction cost) payable to the United States Treasury. For a paper copy of the consent decree without the appendices the cost is $4.75.

Brian Donohue,
Acting Assistant Section Chief, Environmental Enforcement Section, Environment and Natural Resources Division.

[FR Doc. 2013-08278 Filed 4-9-13; 8:45 am]

BILLING CODE 4410-15-P